DEPARTMENT OF THE INTERIOR

Bureau of Land Management

[L16100000.DO0000 LLCOS05000 L.X.SS.048C0000]

Notice of Public Meetings, Southwest Colorado Resource Advisory Council Meetings

AGENCY: Bureau of Land Management.

ACTION: Notice of public meetings.

SUMMARY: In accordance with the Federal Land Policy and Management Act (FLPMA) and the Federal Advisory Committee Act of 1972 (FACA), the U.S. Department of the Interior, Bureau of Land Management (BLM) Southwest Colorado Resource Advisory Council (RAC) will meet as indicated below.

DATES: The Southwest Colorado RAC has scheduled meetings for May 29, 2009; August 28, 2009; and November 6, 2009.

ADDRESSES: The Southwest Colorado RAC meetings will be held May 29, 2009, in Dolores, CO, at the Anasazi Heritage Center, 27501 Highway 184, Dolores, CO 81323; August 28, 2009, in Silverton, CO, meeting location to be announced; and November 6, 2009, in Delta, CO at the Bill Heddles Recreation Center, 530 Gunnison River Drive, Delta, CO 81416. Field trips will be conducted to appropriate sites the day before each scheduled meeting.

All Southwest Colorado RAC meetings will begin at 9 a.m. and adjourn at approximately 4 p.m., with public comment periods regarding matters on the agenda at 2:30 p.m.

FOR FURTHER INFORMATION CONTACT: David Boyd, Public Affairs Specialist, 50629 Hwy. 6&24, Glenwood Springs, CO, telephone 970-947-2832.

SUPPLEMENTARY INFORMATION: The Southwest Colorado RAC advises the Secretary of the Interior, through the Bureau of Land Management, on a variety of public land issues in Colorado.

Topics of discussion during Southwest Colorado RAC meetings may include the BLM National Sage Grouse Conservation Strategy, antlershed hunting in Gunnison Basin, working group reports, recreation, fire management, land use planning, invasive species management, energy and minerals management, travel management, wilderness, wild horse herd management, land exchange proposals, cultural resource management, and other issues as appropriate.

These meetings are open to the public. The public may present written comments to the RACs. Each formal RAC meeting will also have time, as identified above, allocated for hearing public comments. Depending on the number of persons wishing to comment and time available, the time for individual oral comments may be limited.

Dated: March 17, 2009.
Barbara Sharrow,
Southwest Colorado District Manager, Lead Designated Federal Officer for the Southwest Colorado RAC.

[FR Doc. E9-7606 Filed 4-3-09; 8:45 am]

BILLING CODE